DEPARTMENT OF THE TREASURY

Alcohol and Tobacco Tax and Trade Bureau

27 CFR Parts 4, 5, 7, and 19

[Docket No. TTB-2018-0007; T.D. TTB-158; Ref: Notice Nos. 176 and 176A]

RIN 1513-AB54

Modernization of the Labeling and Advertising Regulations for Wine, Distilled Spirits, and Malt Beverages

Correction

In rule document 2020-05939, appearing on pages 18704 through 18726 in the issue of Thursday, April 2, 2020 make the following corrections.

§ 5.52 Certificates of age and origin. [Corrected]

1. On page 18724, in the second column, “§ 5.525.52 Certificates of age and origin.” should read, “§ 5.52 Certificates of age and origin.”

§ 5.57 Personalized labels. [Corrected]

2. On the same page, in the third column, “§ 5.575.57 Personalized labels.” should read, “§ 5.57 Personalized labels.”

§ 5.63 Mandatory statements. [Corrected]

3. On page 18725, in the first column, “§ 5.635.63 Mandatory statements.” should read, “§ 5.63 Mandatory statements.”

§ 5.65 Prohibited practices. [Corrected]

4. On the same page, in the same column, “§ 5.655.65 Prohibited practices.” should read, “§ 5.65 Prohibited practices.”

§ 7.6 Brewery products not covered by this part. [Corrected]

5. On the same page, in the same column, “§ 7.67.6 Brewery products not covered by this part.” should read, “§ 7.6 Brewery products not covered by this part.”

§ 7.10 Meaning of terms. [Corrected]

6. On the same page, in the second column, “§ 7.107.10 Meaning of terms.” should read, “§ 7.10 Meaning of terms.”

§ 7.25 Name and address. [Corrected]

7. On the same page, in the same column, “§ 7.257.25 Name and address” should read, “§ 7.25 Name and address.”

§ 7.29 [Amended] [Corrected]

8. On the same page, in the third column, “§ 7.297.29 [Amended]” should read, “§ 7.29 [Amended]”

§ 7.43 Personalized labels. [Corrected]

9. On the same page, in the same column, “§ 7.437.43 Personalized labels.” should read, “§ 7.43 Personalized labels.”

§ 7.52 Mandatory statements. [Corrected]

10. On page 18726, in the first column, “§ 7.527.52 Mandatory statements.” should read, “§ 7.52 Mandatory statements.”

§ 7.54 [Amended] [Corrected]

11. On the same page, in the same column, “§ 7.547.54 [Amended]” should read, “§ 7.54 [Amended]”

§ 7.71 Alcoholic content. [Corrected]

12. On the same page, in the same column, “§ 7.717.71 Alcoholic content.” should read, “§ 7.71 Alcoholic content.”

§ 19.353 Bottling tank gauge. [Corrected]

13. On the same page, in the second column, “§ 19.35319.353 Bottling tank gauge.” should read, “§ 19.353 Bottling tank gauge.”

§ 19.356 Alcohol content and fill. [Corrected]

14. On the same page, in the third column, “§ 19.35619.356 Alcohol content and fill.” should read, “§ 19.356 Alcohol content and fill.”

[FR Doc. C1-2020-05939 Filed 4-10-20; 8:45 am]

BILLING CODE 1300-01-D